DEPARTMENT OF DEFENSE

Office of the Secretary

[Transmittal No. 19-18]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-18 with attached Policy Justification, and State Department Emergency Determination and Justification.

Dated: July 19, 2019.
Aaron T. Siegel,
Alternate OSD Federal Register Liaison Officer, Department of Defense.

BILLING CODE 5001-06-P

BILLING CODE 5001-06-C

Transmittal No. 19-18

Notice of Proposed Issuance of Letter of Offer Pursuant to Section 36(b)(1) of the Arms Export Control Act, as amended

(i) Prospective Purchaser: Government of the United Arab Emirates

(ii) Total Estimated Value:

Major Defense Equipment * | $ 0 million
Other | $100 million
TOTAL | $100 million

(iii) Description and Quantity or Quantities of Articles or Services under Consideration for Purchase:

Major Defense Equipment (MDE):

None

Non-MDE:

Follow-on blanket order U.S. Marine Corps training, training support, and other training related services in support of the United Arab Emirates Presidential Guard Command.

(iv) Military Department: Navy (AE-P-TAM)

(v) Prior Related Cases, if any: AE-P-TAM

(vi) Sales Commission, Fee, etc., Paid, Offered, or Agreed to be Paid: None

(vii) Sensitivity of Technology Contained in the Defense Article or Defense Services Proposed to be Sold: None

(viii) Date Report Delivered to Congress: May 24, 2019

*As defined in Section 47(6) of the Arms Export Control Act.

POLICY JUSTIFICATION

United Arab Emirates (UAE)—Follow-On Blanket Order Training

The Government of the United Arab Emirates (UAE) has requested follow-on blanket order U.S. Marine Corps training, training support, and other training related services in support of the UAE Presidential Guard Command. The total value for this sale is $100 million.

The Secretary of State has determined and provided a detailed justification that an emergency exists that requires the immediate sale to the United Arab Emirates of the above defense articles (and defense services) in the national security interests of the United States, thereby waiving the Congressional review requirements under Section 36(b) of the Arms Export Control Act, as amended.

This proposed sale will contribute to the foreign policy and national security of the United States by helping to improve the security of an important partner in the region.

The proposed sale will provide the continuation of U.S. Marine Corps training of the UAE's Presidential Guard for counterterrorism, counter-piracy, critical infrastructure protection, and national defense. This training also provides engagement opportunities through military exercises, training, and common equipment. UAE will have no difficulty absorbing this training.

The proposed sale of training will not alter the basic military balance in the region.

There will be no principal contractor associated with this proposed sale. There are no known offset agreements proposed in connection with this potential sale.

Implementation of this proposed amendment to a current sale will allow for the continued permanent assignment of thirty-four (34) U.S. Marine Corps active duty personnel to the UAE.

There will be no adverse impact on U.S. defense readiness as a result of this proposed sale.

BILLING CODE 5001-06-P

[FR Doc. 2019-15724 Filed 7-23-19; 8:45 am]

BILLING CODE 5001-06-C